OFFICE OF PERSONNEL MANAGEMENT

Submission for OMB Emergency Clearance and 60 Day Notice for Comment for a New Information Collection Request; Retirement Systems Modernization Defined Benefits Technology Solution (DBTS) OMB No. 3206-XXXX

AGENCY: Office of Personnel Management (OPM).

ACTION: Notice.

SUMMARY: In accordance with the Paperwork Reduction Act of 1995 (Pub. L. 104-13, May 22, 1995), this notice announces that the Office of Personnel Management (OPM) submitted a request to the Office of Management and Budget (OMB) for emergency clearance and review for emergency clearance collection for the Defined Benefits Technology Solution (DBTS) in support of the Retirement Systems Modernization (RSM) project at OPM. Approval of the DBTS is necessary to ensure timely administration of retirement benefits to both active and retired federal employees and their dependents. This also serves as the 60 Day Notice for full clearance review.

Approximately 23,000 active federal employees will gain access to the DBTS starting in February 2008 and will have access to the tool; The subset of annuitants and other members of the public from this initial user group that will be using the tool starting in February can not be determined at the time of this submission however the audience will likely be significantly smaller than the active population. We estimate it will take approximately 20 minutes to complete most of the information collections associated with the DBTS. The majority of information collections for the DBTS are done via the internet using the Your Benefits Resources (YBR) Web site. The annual estimated burden is 2,733 hours.

Comments are particularly invited on:

• Whether this information is necessary for the proper performance of functions on the Office of Personnel Management, and whether it will have practical utility;

• Whether our estimate of the public burden of this collection of information is accurate, and based on valid assumptions and methodology; and

• Ways in which we can minimize the burden of the collection of information on those who are to respond, through the use of appropriate technological collection techniques or other forms of information technology.

For copies of this proposal, contact Mary Beth Smith-Toomey, OPM PRA and Forms Officer, at (202) 606-8358, Fax (202) 418-3251 or via e-mail to MaryBeth.Smith-Toomey@opm.gov. Please include your complete mailing address with your request.

DATES: Comments on this proposal for emergency review should be received within 15 calendar days from the date of this publication. We are requesting OMB to take action within 10 calendar days from the close of this Federal Register Notice on the request for emergency review. Comments on this proposal for 60 Day review should be received within 60 calendar days from the date of this publication.

ADDRESSES: Send or deliver comments to:

Thomas O'Keefe, Retirement Systems Modernization, U.S. Office of Personnel Management, 1900 E Street, NW., Room 4H30, Washington, DC 20415; and

Brenda Aguilar, OPM Desk Officer, Office of Management and Budget, Office of Information and Regulatory Affairs, New Executive Office Building, NW., Room 10235, Washington, DC 20503.

U.S. Office of Personnel Management,
Howard Weizmann,
Deputy Director.

[FR Doc. E8-808 Filed 1-16-08; 8:45 am]

BILLING CODE 6325-38-P